DEPARTMENT OF LABOR

Employment and Training Administration

[TA-W-57,816]

Nidec America Corporation, a Subsidiary of Nedec Corporation—Japan Including On-Site Leased Workers of Jaci Carroll Staffing and Alternative Employment, Inc., Torrington, CT; Amended Certification Regarding Eligibility To Apply for Worker Adjustment Assistance and Alternative Trade Adjustment Assistance

In accordance with Section 223 of the Trade Act of 1974 (19 U.S.C. 2273), and Section 246 of the Trade Act of 1974, (26 U.S.C. 2813), as amended, the Department of Labor issued a Certification of Eligibility to Apply for Worker Adjustment Assistance and Alternative Trade Adjustment Assistance on September 6, 2005, applicable to workers of Nidec America Corporation, Manufacturing Division, A Subsidiary of Nidec Corporation—Japan, including on-site leased workers of Jaci Carroll Staffing and Alternative Employment, Inc., Torrington, Connecticut. The notice was published in the Federal Register on October 6, 2005 (70 FR 584777).

At the request of the State agency, the Department reviewed the certification for workers of the subject firm. New findings show that the Department limited the certification coverage to only workers of the Manufacturing Division of the subject firm.

The intent of the Department's certification is to cover all workers manufacturing fans and motors at Nidec America Corporation, A Subsidiary of Nidec Corporation—Japan, Torrington, Connecticut, who were adversely affected by increased company imports.

Accordingly, the Department is amending the certification determination to properly reflect this matter.

The amended notice applicable to TA-W-57,816 is hereby issued as follows:

All workers of Nidec America Corporation, A Subsidiary of Nidec Corporation—Japan, including on-site leased workers of Jaci Carroll Staffing and Alternative Employment, Inc., Torrington, Connecticut, who became totally or partially separated from employment on after August 22, 2004, through September 6, 2007, are eligible to apply for adjustment assistance under Section 223 of the Trade Act of 1974, and are also eligible to apply for alternative trade Adjustment assistance under Section 246 of the Trade Act of 1974.

Signed at Washington, DC this 17th day of October 2003.
Richard Church,
Certifying Officer, Division of Trade Adjustment Assistance.

[FR Doc. E5-5888 Filed 10-24-05; 8:45 am]

BILLING CODE 4510-30-P